DEPARTMENT OF AGRICULTURE

Submission for OMB Review; Comment Request

March 24, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by April 28, 2014 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Current Agricultural Industrial Reports (CAIR).

OMB Control Number: 0535—NEW.

Summary of Collection: The Current Industrial Reports program was for 47 different surveys previously conducted by the U.S. Census Bureau (0607-0476), but discontinued on April 30, 2012. NASS is requesting the authority to reinstate nine data collection instruments previously used by the Census Bureau. NASS will separate the ethanol production questionnaire into a wet mill and a dry mill version. The eleven surveys will be referred to collectively as the Current Agricultural Industrial Reports (CAIR). Under the authority of the Census of Agriculture Act of 1997 (Pub. L. 105-113) and defined under Title 7, Sec. 2204(g), these surveys will be mandatory.

Need and Use of the Information: The data from the CAIR surveys will supply data users with important information on the utilization of many of the crops, livestock, and poultry produced in the U.S. Data from these surveys is essential to measuring the consumption of agricultural products in the production of numerous consumer goods. The new data series will also supply vital information to data users on how much of these commodities were processed into fuels, cooking oils, flour, fabric, etc. The CAIR surveys will become an integral part of the 2012 Census of Agriculture and conducted as follow-on-surveys and will be conducted on relatively the same frequency and schedule as used by the Department of Commerce. These data are needed to provide a more complete picture of the importance of agriculture to the American population. Data from these instruments will be used to generate four separate publications.

Description of Respondents: Business or other for-profit.

Number of Respondents: 2,050.

Frequency of Responses: Reporting: One time.

Total Burden Hours: 14,106.

Charlene Parker,
Departmental Information Collection Clearance Officer.

[FR Doc. 2014-06870 Filed 3-27-14; 8:45 am]

BILLING CODE 3410-20-P